DEPARTMENT OF HOMELAND SECURITY

[Docket No. NCS-2006-0003]

Preparedness Directorate; National Security Telecommunications Advisory Committee

AGENCY: Preparedness Directorate, DHS.

ACTION: Notice of Advisory Committee meeting.

SUMMARY: The President's National Security Telecommunications Advisory Committee (NSTAC) will be meeting by teleconference: the meeting will be open to the public.

DATES: Tuesday, March 28, 2006, from 2 p.m. until 3 p.m.

ADDRESSES: The meeting will take place by teleconference. For access to the conference bridge and meeting materials, contact Mr. William Fuller at (703) 235-5521, or by e-mail at William.C.Fuller@dhs.gov by 5 p.m. on Friday, March 24, 2006. If you desire to submit comments, they must be submitted by April 4, 2006. Comments must be identified by NCS-2006-0003 and may be submitted by one of the following methods:

• Federal eRulemaking Portal: http://www.regulations.gov. Follow the instructions for submitting comments.

• E-mail: NSTAC@dhs.gov. Include docket number in the subject line of the message.

• Mail: Office of the Manager, National Communications System (N5), Department of Homeland Security, Washington, DC 20529.

Instructions: All submissions received must include the words “Department of Homeland Security” and NCS-2006-0003, the docket number for this action. Comments received will be posted without alteration at www.regulations.gov, including any personal information provided.

Docket: For access to the docket to read background documents or comments received by the NSTAC, go to http://www.regulations.gov.

FOR FURTHER INFORMATION CONTACT: Ms. Kiesha Gebreyes, Chief, Industry Operations Branch at (703) 235-5525, e-mail: Kiesha.Gebreyes@dhs.gov write the Deputy Manager, National Communications System, Department of Homeland Security, IP/NCS/N5.

SUPPLEMENTARY INFORMATION: The NSTAC advises the President of the United States on issues and problems related to implementing national security and emergency preparedness telecommunications policy. Notice of this meeting is given under the Federal Advisory Committee Act (FACA), Pub. L. 92-463, as amended (5 U.S.C. App.1 et seq.).

At the upcoming meeting, between 2 p.m. and 3 p.m., the members will review and discuss the Report from the NSTAC Next Generation Networks Task Force, the Letter from the NSTAC National Coordinating Center Task Force, and the Letter from the NSTAC Emergency Communications Interoperability Task Force.

Persons with disabilities who require special assistance should indicate this when arranging for access to the teleconference and are encouraged to identify anticipated special needs as early as possible.

Dated: February 16, 2006.
Peter M. Fonash,
Deputy Manager National Communications System.

[FR Doc. 06-2265 Filed 3-9-06; 8:45 am]

BILLING CODE 4410-10-P